DEPARTMENT OF LABOR

Employment and Training Administration

[TA-W-51,929]

LeSportsac, Manufacturing and Distribution Division, Stearns, KY; Notice of Negative Determination Regarding Application for Reconsideration

By application of August 1, 2003, a petitioner requested administrative reconsideration of the Department's negative determination regarding eligibility to apply for Trade Adjustment Assistance (TAA), applicable to workers and former workers of the subject firm. The denial notice was signed on July 11, 2003, and published in the Federal Register on July 22, 2003 (68 FR 43371).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The petition for the workers of LeSportsac, Manufacturing and Distribution Division, Stearns, Kentucky was denied because criterion (2) was not met. Sales and production of luggage and women's handbags at the subject plant increased from February through May 2001 to the corresponding period of 2002 and also increased from February through May of 2002 to the same period in 2003.

In the request for reconsideration, the petitioner alleged that figures indicating sales and production increases at the subject facility incorporated volumes of imports from China. The petitioner questions how an employment decline could have occurred in conjunction with a sales/production increase.

A communication with a company official in regard to this allegation revealed that the sales and production figures provided to the Department in this investigation were for the Stearns facility exclusively. The official further stated that the company is in the midst of a reorganization of its domestic facilities and that employment declines were a result of streamlining production processes more efficiently and reapportioning employment to other domestic facilities.

Conclusion

After review of the application and investigative findings, I conclude that there has been no error or misinterpretation of the law or of the facts which would justify reconsideration of the Department of Labor's prior decision. Accordingly, the application is denied.

Signed at Washington, DC, this 21st day of October, 2003.
Elliott S. Kushner,
Certifying Officer, Division of Trade Adjustment Assistance.

[FR Doc. 03-29262 Filed 11-21-03; 8:45 am]

BILLING CODE 4510-30-P